DEPARTMENT OF LABOR

Occupational Safety and Health Administration

[Docket No. OSHA-2013-0012]

Modification to the List of Appropriate NRTL Program Test Standards and the Scopes of Recognition of Several NRTLs

AGENCY: Occupational Safety and Health Administration (OSHA), Labor.

ACTION: Notice of final decisions.

SUMMARY: In this notice, OSHA announces its final decision to: (1) Delete a test standard from the NRTL Program's list of appropriate test standards; and (2) update the scopes of recognition of several NRTLs.

DATES: OSHA's final decisions are effective on April 20, 2018.

FOR FURTHER INFORMATION CONTACT: Information regarding this notice is available from the following sources:

Press inquiries: Contact Mr. Frank Meilinger, Director, OSHA Office of Communications, U.S. Department of Labor; telephone: (202) 693-1999; email: meilinger.francis2@dol.gov.

General and technical information: Contact Mr. Kevin Robinson, Director, Office of Technical Programs and Coordination Activities, Directorate of Technical Support and Emergency Management, Occupational Safety and Health Administration; telephone: (202) 693-2110; email: robinson.kevin@dol.gov. OSHA's web page includes information about the NRTL Program (see http://www.osha.gov/dts/otpca/nrtl/index.html).

SUPPLEMENTARY INFORMATION:

I. Background

The NRTL Program recognizes organizations that provide product safety testing and certification services to manufacturers. These organizations perform testing and certification, for purposes of the Program, to U.S. consensus-based product safety test standards. The products covered by the Program consist of those items for which OSHA safety standards require “certification” by a NRTL. The requirements affect electrical products and 38 other types of products. OSHA does not develop or issue these test standards, but generally relies on standards development organizations (SDOs) which develop and maintain the standards using a method that provides input and consideration of views of industry groups, experts, users, consumers, governmental authorities, and others having broad experience in the safety field involved.

Removal of Test Standards From the NRTL List of Appropriate Test Standards

OSHA may propose to remove a test standard from the NRTL list of appropriate test standards based on an internal review in which Program staff review the NRTL list of appropriate test standards to determine if the test standard conforms to the definition of appropriate test standard defined in the Programs regulations and policy. There are several reasons for removing a test standard based on this review. First, a document that provides the methodology for a single test is a test method rather than an appropriate test standard. A test standard must specify the safety requirements for a specific type of product(s) (29 CFR 1910.7(c)). A test method, however, is a “specified technical procedure for performing a test” (CPL 1-0.3, App. B). As such, a test method is not an appropriate test standard. While a NRTL may use a test method to determine if certain safety requirements are met, a test method is not itself a safety requirement for a specific product category.

¹ OSHA notes that some types of devices covered by these documents, such as capacitors and transformers, may be end-use products themselves, and tested under other test standards applicable to such products. For example, the following test standard covers transformers that are end-use products: UL 1562 Standard for Transformers, Distribution, Dry-Type—Over 600 Volts. OSHA is not proposing to delete such test standards from NRTLs' scopes of recognition.

Second, a document that focuses primarily on usage, installation, or maintenance requirements would also not be considered an appropriate test standard (CPL 1-0.3, App. D.IV.B). In some cases, however, a document may also provide safety test specifications in addition to usage, installation, and maintenance requirements. In such cases, the document would be retained as an appropriate test standard based on the safety test specifications.

Finally, a document may not be considered an appropriate test standard if the document covers products for which OSHA does not require testing and certification (CPL 1-0.3, App. D.IV.A).

Similarly, a document that covers electrical product components would not be considered an appropriate test standard. These documents apply to types of components that have limitation(s) or condition(s) on their use, in that they are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers that documents covering such components are not appropriate test standards under the NRTL Program. OSHA notes, however, that it is not proposing to delete from NRTLs' scopes of recognition any test standards covering end-use products that contain such components.¹

II. Final Decision To Delete Test Standards From the NRTL Program's List of Appropriate Test Standards

In this notice, OSHA announces its final decision to delete one test standard from the NRTL Program's list of appropriate test standards.

Table 1 lists the test standard that OSHA will delete from the NRTL Program's list of appropriate test standards, as well as an abbreviated rationale for OSHA's actions. For a full discussion of the rationale, see Section I of this notice.

Table 1—Test Standard OSHA Is Deleting From NRTL Program's List of Appropriate Test Standards
Deleted test standard | Reason for deletion | Replacement test standard(s) (if applicable)
UL 96—Lightning Protection Components | Standard does not include products required to be certified by NRTLs | N/A.

III. Final Decision To Modify Affected NRTLs' Scopes of Recognition

In this notice, OSHA announces its final decision to update the scopes of recognition of several NRTLs. The tables in this section (Table 2 thru Table 4) list, for each affected NRTL, the test standard that OSHA is deleting from the scope of recognition of the NRTL.

Table 2—Test Standard OSHA Is Deleting From the Scope of Recognition of Underwriters Laboratories, Inc.
Deleted test standard | Reason for deletion | Replacement test standard(s) (if applicable)
UL 96—Lightning Protection Components | Standard does not include products required to be certified by NRTLs | NONE.

Table 3—Test Standard OSHA Is Deleting From the Scope of Recognition of CSA Group Testing and Certification Inc.
Deleted test standard | Reason for deletion | Replacement test standard(s) (if applicable)
UL 96—Lightning Protection Components | Standard does not include products required to be certified by NRTLs | NONE.

Table 4—Test Standard OSHA Is Deleting From the Scope of Recognition of Intertek Testing Services NA, Inc.
Deleted test standard | Reason for deletion | Replacement test standard(s) (if applicable)
UL 96—Lightning Protection Components | Standard does not include products required to be certified by NRTLs | NONE.

OSHA will incorporate into its informational web pages the modifications OSHA is making to each NRTL's scope of recognition. These web pages detail the scope of recognition for each NRTL, including the test standards the NRTL may use to test and certify products under OSHA's NRTL Program. OSHA also will add, to its “Current List of Removed Test Standards” web page, this test standard that OSHA no longer recognizes or permits under the NRTL Program. Access to these web pages is available at http://www.osha.gov/dts/otpca/nrtl/index.html.

Pursuant to the authority in 29 CFR 1910.7, OSHA hereby modifies the NRTL List of Appropriate Test Standards and associated modification to the scope of recognition for the impacted NRTLs specified above.

V. Authority and Signature

Loren Sweatt, Deputy Assistant Secretary of Labor for Occupational Safety and Health, authorized the preparation of this notice. Accordingly, the Agency is issuing this notice pursuant to 29 U.S.C. 657(g)(2)), Secretary of Labor's Order No. 1-2012 (77 FR 3912, Jan. 25, 2012), and 29 CFR 1910.7.

Signed at Washington, DC, on April 16, 2018.
Loren Sweatt,
Deputy Assistant Secretary of Labor for Occupational Safety and Health.

[FR Doc. 2018-08255 Filed 4-19-18; 8:45 am]

BILLING CODE 4510-26-P